COMMODITY FUTURES TRADING COMMISSION

Sunshine Act Meeting

AGENCY: Commodity Futures Trading Commission.

ACTION: Notice of public meeting.

SUMMARY: Notice is hereby given that the Commodity Futures Trading Commission (“Commission”) will hold a public roundtable meeting at which invited participants will discuss global markets-related issues in the financial services and commodity markets. Participants will be announced at a later date.

DATES: Tuesday, December 13, 2005, from 1 to 4 p.m.

ADDRESSES: 1155 21st Street, NW., Washington, DC, Lobby Level Hearing Room located at Room 1000.

STATUS: Open.

FOR FURTHER INFORMATION CONTACT: Jean A. Webb, 202-418-5100.

Issued by the Commission in Washington, DC on November 30, 2005.
Jean A. Webb,
Secretary of the Commission.

[FR Doc. 05-23623 Filed 11-30-05; 12:41 pm]

BILLING CODE 6351-01-M